DEPARTMENT OF COMMERCE

National Oceanic and Atmospheric Administration

[I.D. 121504C]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings along with the Council's Administrative Policy Committee, Data Collection Committee, Habitat Protection Committee, Mackerel Management Committee, Reef Fish Management Committee, Shrimp Management Committee, and the Sustainable Fisheries/Ecosystem Committee. Joint meetings will also be held by the Artificial Reef/Reef Fish Committees and the Reef Fish/Mackerel Committees. The agenda for these meetings can be found under the SUPPLEMENTARY INFORMATION section of this notice.

DATES: The Council will meet January 12, 2005, from 1 to 5:15 p.m. and January 13 from 8:30 am. to 1 p.m. The Committee meetings will be held January 10, 2005, from 9:30 a.m. to 5:30 p.m., January 11 from 8:30 am. to 5:30 p.m., and January 12 from 8:30 am. to 11:30 a.m.

ADDRESSES: The meetings will be held at the Sheraton Baton Rouge, 102 France Street, Baton Rouge, LA.

Council address: Gulf of Mexico Fishery Management Council, 3018 North U.S. Highway 301, Suite 1000, Tampa, FL 33619.

FOR FURTHER INFORMATION CONTACT: Wayne E. Swingle, Executive Director, Gulf of Mexico Fishery Management Council; telephone: (813) 228-2815.

SUPPLEMENTARY INFORMATION:

Agenda for the Fishery Management Council Meeting

Wednesday, January 12, 2005

1 p.m. - Convene.

1:15 p.m. — 3:30 p.m. - Receive public testimony on (1) Final Reef Fish Amendment 24, (2) Final CMP Amendment 15, (3) Final essential fish habitat (EFH) Amendment 3, (4) the Texas Shrimp Closure, and (5) exempted fishing permits (if any).

3:30 p.m. — 3:45 p.m. - Receive the Habitat Protection Committee report.

3:45 p.m. — 4:15 p.m. - Receive the Shrimp Management Committee report.

4:15 p.m. — 4:45 p.m. - Receive the Mackerel Management Committee report.

4:45 p.m. — 5:15 p.m. - Receive the Joint Artificial Reef/ Reef Fish Committee report.

Thursday, January 13, 2005

8:30 a.m. — 10:30 a.m. - Receive the Reef Fish Management Committee report.

10:30 a.m. — 10:45 a.m. - Receive the Data Collection Committee report.

10:45 a.m. — 11 a.m. - Receive the Joint Reef Fish/Mackerel Committee report.

11 a.m. — 11:15 a.m. - Receive the Sustainable Fisheries/Ecosystem Committee report.

11:15 a.m. — 11:30 a.m. - Receive the Administrative Policy Committee report.

11:30 a.m. — 11:45 a.m. - Receive the International Commission for the Conservation of Atlantic Tunas (ICCAT) meeting report.

11:45 a.m. — 12 noon - Receive the U.S. Coral Reef Task Force meeting report.

12 noon — 12:15 p.m. - Receive Enforcement Reports.

12:15 p.m. — 12:30 p.m. - Receive the NMFS Regional Administrator's report.

12:30 p.m. — 12:45 p.m. - Receive Director's Reports.

12:45 p.m. — 1 p.m. - Other business.

Agenda for Committee Meetings

Monday, January 10, 2005

9:30 a.m. — 11:30 a.m. - The Shrimp Management Committee will review the public hearing draft of Shrimp Amendment 13 which addresses limited access in the shrimp fishery. They will also review scientific analyses of the effect of the cooperative shrimp closure with the state of Texas and determine whether the closure should be implemented in 2005.

1 p.m. — 5:30 p.m. - The Reef Fish Management Committee will meet take final action on Reef Fish Amendment 24. The Committee will discuss a proposed vessel buy-out program for the Gulf commercial grouper fishery based on funding provided by Congress and review a biological opinion on the effect of the Gulf reef fish fishery, proposed by NMFS, under the Endangered Species Act. The Committee will also review a draft of Reef Fish Amendment 18A addressing the grouper fishery and a preliminary draft of a red grouper regulatory amendment providing for commercial vessel trip limits.

Tuesday, January 11, 2005

8:30 a.m. — 10:30 a.m. - The Reef Fish Management Committee will reconvene to complete its work.

10:30 a.m. — 11:30 a.m. - The Mackerel Management Committee will meet to take final action on CMP Amendment 15.

1 p.m. — 2 p.m. - The Joint Artificial Reef/Reef Fish Committees will review a Mississippi Fishing Banks Special Management Zone Request.

2 p.m. — 3 p.m. - The Data Collection Committee will hear an update by the Gulf States Marine Fisheries Commission on its Fisheries Information Network (FIN) program.

3 p.m. — 4:30 p.m. - The Joint Reef Fish/Mackerel Committees will review an options paper for an amendment that would extend the charter vessel permit moratorium.

4:30 p.m. — 5:30 p.m. - The Administrative Policy Committee will review feasibility studies for distribution of Council mail via email and video/teleconferencing of public hearings or meetings.

Wednesday, January 12, 2005

8:30 a.m. — 9:30 a.m. - The Habitat Protection Committee will take final action on the EFH Amendment by developing their recommendations to Council.

9:30 a.m. — 11:30 a.m. - The Sustainable Fisheries/Ecosystem Committee will meet to review NMFS actions on developing social survey documents and address developing a Request for Proposal (RFP) for soliciting contractual support in carrying out social ecosystem surveys. They will also discuss the role of the Ecosystem Scientific and Statistical Committee (SSC).

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the untimely completion of discussion relevant to other agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by December 29, 2004.

Dated: December 17, 2004.
Alan D. Risenhoover
Acting Director, Office of Sustainable Fisheries, National Marine Fisheries Service.

[FR Doc. E4-3763 Filed 12-21-04; 8:45 am]

BILLING CODE 3510-22-S